DEPARTMENT OF ENERGY

Federal Energy Regulatory Commission

[Project No. 1121-000]

Battle Creek Hydroelectric Project; Notice of Existing Licensee's Notice of Intent To Not File a New License Application, and Soliciting Notices of Intent To File a License Application and Pre-Application Documents

At least five years, but no more than five and one-half years, before the expiration of a license for a major water power project, the licensee must file with the Commission a letter that contains an unequivocal statement of the licensee's intent to file or not to file an application for a new license.¹

¹ 18 CFR 16.6(c) (2020).

If such a licensee informs the Commission that it does not intend to file an application for a new license, nonpower license, or exemption for the project, the licensee may not file an application for a new license, nonpower license, or exemption for the project, either individually or in conjunction with an entity or entities that are not currently licensees of the project.²

² 18 CFR 16.24 (a)(1).

On October 23, 2020, Pacific Gas & Electric Company (PG&E), the existing licensee for the Battle Creek Hydroelectric Project No. 1121, filed notice of its intent to not file an application for a new license. Therefore, pursuant to section 16.24(a)(1) of the Commission's regulations, PG&E may not file an application for a new license for the project, either individually or in conjunction with an entity or entities that are not currently licensees of the project.

The 36.1-megawatt (MW) Battle Creek Hydroelectric Project is located on the North and South Forks of Battle Creek, a tributary to the Sacramento River, in Shasta and Tehama Counties, California. The project occupies 93 acres of federal land managed by the U.S. Forest Service and the Bureau of Land Management. The existing license for the project expires on July 31, 2026.³

³ Because PG&E filed the notice of intent to not file an application for a new license more than five and one-half years before the expiration of the license, we waive the applicable requirement in 18 CFR 16.6(c)(1).

The principal project works consist of: (1) Two small upstream storage reservoirs; (2) three forebays; (3) twenty canals and pipelines and associated diversion dams; (4) penstocks leading to five powerhouses; (5) five 60-kV transmission lines with a total length of 50.3 miles; and (6) five substations.

Any party interested in filing a license application (i.e., potential applicant) for the Battle Creek Hydroelectric Project No. 1121 must file a Notice of Intent (NOI) ⁴ and pre- application document (PAD).⁵ Additionally, while the integrated licensing process (ILP) is the default process for preparing an application for a subsequent license, a potential applicant may request to use alternative licensing procedures when it files its NOI.⁶

⁴ 18 CFR 5.5.

⁵ 18 CFR 5.6.

⁶ 18 CFR 5.3(b).

The deadline for potential applicants, other than the existing licensee, to file NOIs, PADs, and requests to use an alternative licensing process is 120 days from the issuance date of this notice.

Applications for a new license from potential applicants, other than the existing licensee, must be filed with the Commission at least 24 months prior to the expiration of the existing license.⁷ Because the existing license expires on July 31, 2026, applications for license for this project must be filed by July 31, 2024.

⁷ 18 CFR 16.9(b)(1).

Questions concerning this notice should be directed to Rebecca Kipp (202) 502- 8846 or rebecca.kipp@ferc.gov.

Dated: February 16, 2021.
Kimberly D. Bose,
Secretary.

[FR Doc. 2021-03675 Filed 2-22-21; 8:45 am]

BILLING CODE 6717-01-P